ENVIRONMENTAL PROTECTION AGENCY

40 CFR Part 52

[CA 241-0244b; FRL-6893-2]

Approval and Promulgation of State Implementation Plans; California State Implementation Plan Revision, Antelope Valley Air Pollution Control District

AGENCY: Environmental Protection Agency (EPA).

ACTION: Proposed rule.

SUMMARY: EPA is proposing to approve revisions to the California State Implementation Plan (SIP) for the Antelope Valley Air Pollution Control District (AVAPCD). The revisions concern the recission and associated negative declarations for one volatile organic compound source category and one oxides of nitrogen source category for the Antelope Valley Air Pollution Control District (AVAPCD).

The intended effect of this action is to bring the AVAPCD SIP up to date in accordance with the requirements of the Clean Air Act, as amended in 1990 (CAA or the Act). EPA is finalizing the approval of these recissions and associated negative declarations from the California SIP under provisions of the CAA regarding EPA action on SIP submittals, SIPs for national primary and secondary ambient air quality standards and plan requirements for nonattainment areas. EPA is approving these revisions in accordance with the requirements of the CAA.

DATES: Comments must arrive by December 4, 2000.

ADDRESSES: Mail comments to: Andrew Steckel, Chief, Rulemaking Office (AIR-4), Air Division, U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 2020 “L” Street, Sacramento, CA 95812.

Antelope Valley Air Pollution Control District, 43301 Division Street, Suite 206, Lancaster, CA 93539-4409.

FOR FURTHER INFORMATION CONTACT: Julie A. Rose, Rulemaking Office, AIR-4, Air Division, U.S. Environmental Protection Agency, Region 9, 75 Hawthorne Street, San Francisco, CA 94105-3901, telephone: (415) 744-1184.

SUPPLEMENTARY INFORMATION: The rules being approved for recission and the negative declarations being approved for the Antelope Valley Air Pollution Control District (AVAPCD) portion of the California SIP are listed in the following Table:

Submitted Recissions and Negative Declarations
Rule No. and title | Adoption date | Submittal date | Type of revision
1103, Pharmaceuticals and Cosmetic Manufacturing Operations | 01-18-00 | 03-28-00 | Recission and Negative Declaration.
1159, Nitric Acid Units—Oxides of Nitrogen | 01-18-00 | 03-28-00 | Recission and Negative Declaration.

In the Final Rules section of this Federal Register, the EPA is approving the state's SIP submittal as a direct final rule without prior proposal because the Agency views this as a noncontroversial revision and anticipates no adverse comments.

A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

Authority: 42 U.S.C. 7401 et seq.

Dated: October 4, 2000.
Felicia Marcus,
Regional Administrator, Region IX.

[FR Doc. 00-27660 Filed 11-2-00; 8:45 am]

BILLING CODE 6560-50-U